DEPARTMENT OF THE INTERIOR

National Park Service

Public Notice

AGENCY: National Park Service, Interior.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Conc ID No. | Concessioner name | Park
CHIS003 | Truth Aquatics | Channel Islands National Park.
DEVA001 | Xanterra Parks & Resorts, Inc | Death Valley National Monument.
DEVA002 | Xanterra Parks & Resorts, Inc | Death Valley National Monument.
GOGA001 | Blue & Gold Fleet, L.P | Golden Gate National Recreation Area.
GOGA008 | Demosthemes Hontalas, Thomas Hontalas & William Hontalas | Golden Gate National Recreation Area.
LACH003 | Lake Chelan Recreation, Inc | Lake Chelan National Recreation Area.
LAME001 | Rex G. Maughan & Ruth G. Maughan | Lake Mead National Recreation Area.
LAME003 | Seven Resorts, Inc | Lake Mead National Recreation Area.
LAME005 | Rex G. Maughan | Lake Mead National Recreation Area.
LAME006 | Las Vegas Boat Harbor | Lake Mead National Recreation Area.
LAME007 | Seven Resorts, Inc | Lake Mead National Recreation Area.
LAME008 | Overton Beach Resort | Lake Mead National Recreation Area.
LAME009 | Seven Resorts, Inc | Lake Mead National Recreation Area.
LAME010 | Seven Resorts, Inc | Lake Mead National Recreation Area.
LAVO001 | California Guest Services, Inc | Lassen Volcanic National Park.
MORA001 | Rainier Mountaneering, Inc | Mount Rainier National Park.
MUWO001 | ARAMARK Sports & Entertainment, Inc | Muir Woods National Monument.
OLYM005 | Forever Resorts, Inc | Olympic National Park.
ROLA003 | Ross Lake Resort, Inc | Ross Lake National Recreation Area.
WHIS001 | Kenneth D. Smith & Cheryl K. Smith | Whiskeytown National Recreation Area.

DATES: Effective Date: January 1, 2006.

FOR FURTHER INFORMATION CONTACT: Jo A. Pendry, Concession Program Manager, National Park Service, Washington, DC 20240, Telephone 202/513-7156.

Dated: December 15, 2005.
Alfred J. Poole, III,
Acting Assistant Director, Business Services.

[FR Doc. 06-23 Filed 1-3-06; 8:45 am]

BILLING CODE 4312-53-M